DEPARTMENT OF COMMERCE

International Trade Administration

[A-533-820]

Notice of Amended Final Antidumping Duty Determination of Sales at Less Than Fair Value and Antidumping Duty Order: Certain Hot-Rolled Carbon Steel Flat Products From India

AGENCY: Import Administration, International Trade Administration, Department of Commerce.

SUMMARY: We are amending our Notice of Final Determination of Sales at Less Than Fair Value: Certain Hot-Rolled Carbon Steel Flat Products From India, October 3, 2001 (66 FR 50406) (Final Determination), to reflect the correction of ministerial errors made in the final determination. This correction is in accordance with section 735(e) of the Tariff Act of 1930, as amended (the Act) and 19 CFR 351.224 of the Department of Commerce's (the Department's) regulations. The period of investigation (POI) covered by this amended final determination is October 1, 1999, through September 30, 2000. This notice also constitutes the antidumping duty order with respect to certain hot-rolled carbon steel flat products from India.

EFFECTIVE DATE: December 3, 2001.

FOR FURTHER INFORMATION CONTACT: Timothy Finn, John Conniff, or Howard Smith at (202) 482-0065, (202) 482-1009, or (202) 482-5193, respectively, AD/CVD Enforcement, Office 4, Group II, Import Administration, International Trade Administration, U.S. Department of Commerce, 14th Street and Constitution Avenue, NW., Washington, DC 20230.

Applicable Statute and Regulations

Unless otherwise indicated, all citations to the Act are references to the provisions effective January 1, 1995, the effective date of the amendments made to the Act by the Uruguay Round Agreements Act. In addition, unless otherwise indicated, all citations to the Department's regulations are to 19 CFR part 351 (2000).

Scope of Order

For purposes of this order, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this order.

Specifically included within the scope of this order are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this order, regardless of definitions in the Harmonized Tariff Schedule of the United States (HTSUS), are products in which: (i) Iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this order unless otherwise excluded. The following products, by way of example, are outside or specifically excluded from the scope of this order:

• Alloy hot-rolled steel products in which at least one of the chemical elements exceeds those listed above (including, e.g., American Society for Testing and Materials (ASTM) specifications A543, A387, A514, A517, A506).

• Society of Automotive Engineers (SAE)/American Iron & Steel Institute (AISI) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this order, including: Vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and U.S. Customs purposes, the written description of the merchandise subject to this proceeding is dispositive.

Amended Final Determination

On October 3, 2001, in accordance with sections 735(d) and 777(i)(1) of the Act, the Department published its affirmative final determination in this proceeding. See Final Determination, 66 FR 50406. Pursuant to 19 CFR 351.224(c), on October 2, October 3, and October 4, 2001, we received timely filed submissions from respondents, Essar Steel Ltd. (Essar) and Ispat Industries Ltd. (Ispat), and certain petitioners ¹ alleging that the Department made ministerial errors in its final determination. On October 9, 2001, we received rebuttal comments from Ispat and petitioners regarding the allegations of ministerial errors in the calculation of Ispat's margin.

¹ The petitioners that filed ministerial error allegations are Bethlehem Steel Corporation, United States Steel, LLC, National Steel Corporation, and LTV Steel Company, Inc.

Petitioners allege that in calculating Ispat's weighted-average margin, the Department (1) failed to include bad debt expenses in the reported home market indirect selling expenses, and (2) failed to include a significant portion of interest expenses in the interest expense ratio. Although Ispat agrees with petitioners' contention that bad debt expense should be included in indirect selling expenses, it disagrees with the methodology used by petitioners to recalculate the indirect selling expense ratio. In addition, Ispat claims that there is no ministerial error with respect to the interest expense calculation.

Moreover, both parties allege that the Department failed to use costs that properly reflect the “Customs Duty Adjustment.”

With respect to Essar, petitioners allege that the Department's margin calculations (1) Fail to account for interest expenses and interest income associated with home market and U.S. sales, (2) fail to account for direct labor expense, (3) fail to base general, administrative and interest expenses on adjusted total manufacturing costs, and (4) fail to include the proper facts available rate for unreported U.S. sales.

Essar alleges that the Department failed to take into account home market freight revenue in calculating home market credit expense.

In accordance with section 735(e) of the Act, we have determined that, with the exception of the allegation regarding the interest expense ratio, ministerial errors were made in our final margin calculations. Thus, we are amending our final determination in order to revise the antidumping duty rate for Essar and Ispat. The revised weighted-average dumping margins are listed in the “Antidumping Duty Order” section below. For a detailed analysis of the ministerial errors that we addressed, and the Department's position on each, see the Memorandum to Bernard T. Carreau from Holly A. Kuga, dated November 19, 2001, regarding Ministerial Error Allegations on file in room B-099 of the Main Commerce building.

Antidumping Duty Order

On November 13, 2001, in accordance with section 735(d) of the Act, the International Trade Commission (the Commission) notified the Department of its final determination that an industry in the United States is materially injured by reason of less-than-fair-value imports of subject merchandise from India, pursuant to section 735(b)(1)(A) of the Act. Therefore, in accordance with section 736(a)(1) of the Act, the Department will direct U.S. Customs to assess, upon further advice by the Department, antidumping duties equal to the amount by which the normal value of the merchandise exceeds the export price of the merchandise for all relevant entries of certain hot-rolled carbon steel flat products from India. These antidumping duties will be assessed on all unliquidated entries of subject merchandise from India entered, or withdrawn from warehouse, for consumption on or after May 3, 2001, the date on which the Department published its Notice of Preliminary Determination of Sales at Less Than Fair Value and Postponement of Final Determination: Certain Hot-Rolled Carbon Steel Flat Products From India, (66 FR 22157).

On or after the date of publication of this notice in the Federal Register, U.S. Customs must require, at the same time as importers would normally deposit estimated duties, cash deposits for the subject merchandise equal to the estimated weighted-average dumping margins listed below. The “All Others” rate applies to all exporters of subject merchandise not specifically listed below.

Manufacturer/exporter | Revised margin (percent)
Ispat Industries Ltd | 44.40
Essar Steel Ltd. | 36.53
All Others | 38.72

This notice constitutes the antidumping duty order with respect to certain hot-rolled carbon steel flat products from India. Interested parties may contact the Department's Central Records Unit, Room B-099 of the main Commerce building, for copies of an updated list of antidumping duty orders currently in effect.

This order is issued and published in accordance with section 736(a) of the Act and 19 CFR 351.211.

November 20, 2001.
Faryar Shirzad,
Assistant Secretary for Import Administration.

[FR Doc. 01-29896 Filed 11-30-01; 8:45 am]

BILLING CODE 3510-DS-P